DEPARTMENT OF ENERGY

Federal Energy Regulatory Commission

[Project No. 2452-236]

Consumers Energy Company; Notice of Availability of Environmental Assessment

In accordance with the National Environmental Policy Act of 1969 and the Federal Energy Regulatory Commission's (Commission or FERC) regulations, 18 Code of Federal Regulations (CFR) part 380, Commission staff reviewed Consumer Energy Company's application for a non-capacity amendment of the license for the Hardy Hydroelectric Project No. 2452 (project) and have prepared an Environmental Assessment (EA). The licensee proposes amending the license to upgrade project features and improve dam safety. As proposed, the licensee would improve dam safety by: (1) temporarily drawing down the project reservoir to facilitate construction; (2) replacing the auxiliary spillway; (3) widening the road that traverses the dam crest; and (4) replacing the dam's existing splash wall. The 30.0-megawatt project is on the Muskegon River in Newaygo and Mecosta counties, Michigan. The project does not occupy federal lands.

The EA contains Commission staff's analysis of the potential environmental effects of the proposed amendment and concludes that it would not constitute a major federal action that would significantly affect the quality of the human environment.

The Commission provides all interested persons with an opportunity to view and/or print the EA via the internet through the Commission's Home Page (https://www.ferc.gov) using the “eLibrary” link. Enter the docket number, excluding the last three digits in the docket number field, to access the document. For assistance, contact FERC Online Support at FERCOnlineSupport@ferc.gov or toll-free at (866) 208-3676, or for TTY, (202) 502-8659.

You may also register online at https://ferconline.ferc.gov/eSubscription.aspx to be notified via email of new filings and issuances related to this or other pending projects. For assistance, contact FERC Online Support. For further information, contact David Rudisail at 202-502-6376 or David.Rudisail@ferc.gov.

Dated: February 20, 2024.
Debbie-Anne A. Reese,
Acting Secretary.

[FR Doc. 2024-03931 Filed 2-26-24; 8:45 am]

BILLING CODE 6717-01-P